DEPARTMENT OF VETERANS AFFAIRS

[OMB Control No. 2900-0697]

Agency Information Collection Activity Under OMB Review: Application for Approval of a Licensing or Certification Test and Organization or Entity

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0697.”

FOR FURTHER INFORMATION CONTACT:

VA PRA information: Maribel Aponte, 202-461-8900, vacopaperworkreduact@va.gov.

SUPPLEMENTARY INFORMATION:

Title: Application for Approval of a Licensing or Certification Test and Organization or Entity. No Form.

OMB Control Number: 2900-0697, https://www.reginfo.gov/public/do/PRASearch.

Type of Review: Revision of a currently approved collection.

Abstract: SAAs and VA will use the information to decide whether the licensing and certification tests, and the organizations offering them, should be approved for use under the education programs VA administers. VA did not develop an official form for this information collection since section 3689 of title 38, United States Code permitted VA to delegate the approval functions to the State Approving Agencies; and from the inception of this information collection, VA has given the State Approving Agencies the authority to approve licensing and certification tests and organizations. Consequently, the State Approving Agencies have developed their own forms to gather information they will need per their respective state laws to decide whether the licensing and certification tests and the organizations offering them should be approved. In the case of an organization seeking approval directly from VA, any information VA receives concerning the request for approval is forwarded directly to the appropriate State Approving Agency. Since SAAs have approval authority, education institutions and licensing and certification organizations supply information to the SAAs for approval in a manner specified by the SAA.

An agency may not conduct or sponsor, and a person is not required to respond to a collection of information unless it displays a currently valid OMB control number. The Federal Register Notice with a 60-day comment period soliciting comments on this collection of information was published at 89 FR 51391, June 17, 2024.

Affected Public: Individuals and Households.

Estimated Annual Burden: 3,453 hours.

Estimated Average Burden Time per Respondent: 3 hours or 180 minutes.

Frequency of Response: Once Occasionally.

Estimated Number of Respondents: 1,151.

Authority: 44 U.S.C. 3501 et seq.

Maribel Aponte,
VA PRA Clearance Officer, Office of Enterprise and Integration, Data Governance Analytics, Department of Veterans Affairs.

[FR Doc. 2024-18846 Filed 8-21-24; 8:45 am]

BILLING CODE 8320-01-P